DEPARTMENT OF JUSTICE

Antitrust Division

Notice Pursuant to the National Cooperative Research and Production Act of 1993—Open DeviceNet Vendor Association, Inc.

Notice is hereby given that, on November 14, 2007, pursuant to section 6(a) of the National Cooperative Research and Production Act of 1993, 15 U.S.C. 4301 et seq. (“the Act”), Open DeviceNet Vendor Association, Inc. (“ODVA”) has filed written notifications simultaneously with the Attorney General and the Federal Trade Commission disclosing changes in its membership. The notifications were filed for the purpose of extending the Act's provisions limiting the recovery of antitrust plaintiffs to actual damages under specified circumstances. Specifically, Camozzi SPA, Brescia, ITALY; and Trinite Automatisering B.V., Mydrecht, THE NETHERLANDS have been added as paries to this venture. Also, Advance Electric Company, Inc., Aichi, JAPAN; AMC Technologies, Edmonton, Alberta, CANADA; AVG Automation (Uticor), Bettendorf, IA; Cooper Power Tools, Lexington, SC; Daniel Woodhead Co. (Woodhead Connectivity), Northbrook, IL; Eilersen Electric A/S, Koddedal, DENMARK; Helix Technology Corporation (Granville-Phillips), Clemsford, MA; MAC Valves, Inc., Wixom, MI; Microwave Data Systems, Rochester, NY; Wizardry Inc., Gardnerville, NV; Woodhead Software & Electronics (SST), Waterloo, Ontario, CANADA; and Woodhead Software & Electronics France, Caudebec Les Elbeuf, FRANCE have withdrawn as parties to this venture.

No other changes have been made in either the membership or planned activity of the group research project. Membership in this group research project remains open, and ODVA intends to file additional written notifications disclosing all changes in membership.

On June 21, 1995, ODVA filed its original notification pursuant to section 6(a) of the Act. The Department of Justice published a notice in the Federal Register pursuant to section 6(b) of the Act on February 15, 1996 (61 FR 6039).

The last notification was filed with the Department on August 30, 2007. A notice was published in the Federal Register pursuant to section 6(b) of the Act on November 7, 2007 (72 FR 62866).

Patricia A. Brink,
Deputy Director of Operations, Antitrust Division.

[FR Doc. 07-6227 Filed 12-28-07; 8:45 am]

BILLING CODE 4410-11-M